DEPARTMENT OF JUSTICE

Notice of Lodging of Consent Decree Pursuant to the Comprehensive Environmental Response, Compensation, and Liability Act

Notice is hereby given that a consent decree in United States v. Paul J. Mraz, et al., Civil Action Nos. CCB-03-332 and CCB 89-2869(D. Md.) was lodged with the court on June 6, 2005.

The proposed consent decree requires the defendants to reimburse the United States in the amount of $110,000 for response costs incurred with respect to the Maryland Sand Superfund Site in Elkton, Maryland pursuant to the Comprehensive Environmental Response, Compensation and Liability Act, as amended (“CERCLA”), 42 U.S.C. 9607.

The Department of Justice will receive, for a period of thirty (30) days from the date of this publication, comments relating to the proposed consent decree. Comments should be addressed to the Assistant Attorney General, Environment and Natural Resources Division, PO Box 7611, U.S. Department of Justice, Washington, DC 2004, and should refer to United States v. Paul J. Mraz, et al., DOJ Ref. # 90-11-2-225/1.

The proposed consent decree may be examined and copied at the Office of the United States Attorney, 36 S. Charles Street, Baltimore, Maryland 21201; or at the Region III Office of the Environmental Protection Agency, c/o Daniel Boehmcke, Senior Assistant Regional Counsel, 1650 Arch Street, Philadelphia, PA 19103. During the public comment period, the amended consent decree, may also be examined on the following Department of Justice website, http://www.usdoj.gov/enrd/open.htlm. A copy of the amended decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury.

Robert Brook,
Assistant Chief, Environmental Enforcement Section, Environment and Natural Resources Division.

[FR Doc. 05-12464 Filed 6-22-05 8:45 am]

BILLING CODE 4410-15-M